DEPARTMENT OF HOMELAND SECURITY

Coast Guard

[Docket No. USCG-2022-0159]

National Maritime Security Advisory Committee; May 2022 Teleconference

AGENCY: U.S. Coast Guard, Department of Homeland Security.

ACTION: Notice of Federal Advisory Committee teleconference meeting.

SUMMARY: The National Maritime Security Advisory Committee (Committee) will meet via teleconference, to review and discuss on matters relating to national maritime security, including on enhancing the sharing of information related to cybersecurity risks that may cause a transportation security incident, between relevant Federal agencies and (a) state, local, and tribal governments, (b) relevant public safety and emergency response agencies, (c) relevant law enforcement and security organizations, (d) maritime industry, (e) port owners and operators, and, (f) terminal owners and operators. This teleconference will be open to the public.

DATES:

Meetings: The Committee will meet by teleconference on Tuesday, May 3, 2022 from 1 p.m. until 5 p.m. Eastern Daylight Time (EDT) and on Wednesday, May 4, 2022 from 9 a.m. to noon. This teleconference may close early if all business is finished.

Comments and supporting documentation: To ensure your comments are received by Committee members before the teleconference, submit your written comments no later than April 22, 2022.

ADDRESSES: To join the teleconference or to request special accommodations, contact the individual listed in the FOR FURTHER INFORMATION CONTACT section no later than 1 p.m. EDT on April 22, 2022, to obtain the needed information. The number of teleconference lines are limited and will be available on a first-come, first-served basis.

Instructions: You are free to submit comments at any time, including orally at the teleconference as time permits, but if you want Committee members to review your comment before the teleconference, please submit your comments no later than April 22, 2022. We are particularly interested in comments on the issues in the “Agenda” section below. We encourage you to submit comments through Federal eRulemaking Portal at https://regulations.gov. If your material cannot be submitted using https://regulations.gov, call or email the individual in the FOR FURTHER INFORMATION CONTACT section of this document for alternate instructions. You must include the docket number [USCG-2022-0159]. Comments received will be posted without alteration at https://www.regulations.gov including any personal information provided. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Ryan Owens, Alternate Designated Federal Officer of the National Maritime Security Advisory Committee, 2703 Martin Luther King Jr. Avenue SE, Washington, DC 20593, Stop 7581, Washington, DC 20593-7581; telephone 202-302-6565 or email ryan.f.owens@uscg.mil.

SUPPLEMENTARY INFORMATION: Notice of this meeting is in compliance with the Federal Advisory Committee Act, (5 U.S.C. appendix). The Committee was established on December 4, 2018, by § 602 of the Frank LoBiondo Coast Guard Authorization Act of 2018, Public Law 115-282, 132 Stat. 4192 and is codified in 46 U.S.C. 70112. The Committee operates under the provisions of the Federal Advisory Committee Act, (5 U.S.C. appendix), and 46 U.S.C. 15109. The National Maritime Security Advisory Committee provides advice, consults with, and makes recommendations to the Secretary of Homeland Security, via the Commandant of the Coast Guard, on matters relating to national maritime security.

Agenda

Day 1

The agenda for the National Maritime Security Advisory Committee is as follows:

Tuesday, May 3, 2022

(1) Call to Order.

(2) Introduction.

(3) Designated Federal Official Remarks.

(4) Roll call of Committee members and determination of quorum.

(5) Remarks from U.S. Coast Guard Senior Leadership.

(6) Remarks from Committee Leadership.

(7) Final Report and Discussion of Tasks. The Committee will provide a final report and discussion on the following tasks:

a. Task T-2021-1: Provide feedback on cyber vulnerability assessments that are being conducted within the industry.

b. Task T-2021-2: Provide input to support further development of the Maritime Cyber Risk Assessment Model.

c. Task T-2021-3: Recommendations on Cybersecurity Information Sharing.

(8) Public comment period.

(9) Closing Remarks/plans for next meeting.

(10) Adjournment of meeting.

Day 2

Wednesday, May 4, 2022

(1) Call to Order.

(2) Introduction.

(3) Designated Federal Official Remarks.

(4) Committee Chair Remarks.

(5) NMSAC Sector Report. NMSAC members will provide an update on related efforts within their sector and will provide items of future interest for the Committee to consider.

(6) Public Comments.

(7) Closing Remarks.

(8) Meeting Adjourned.

A copy of all meeting documentation will be available at https://homeport.uscg.mil/NMSAC by April 25, 2022. Alternatively, you may contact Mr. Ryan Owens as noted in the FOR FURTHER INFORMATION CONTACT section above.

There will be a public comment period at the end of the meeting. Speakers are requested to limit their comments to 3 minutes. Please note that the public comment period may end before the period allotted, following the last call for comments. Contact the individual listed in the FOR FURTHER INFORMATION CONTACT section above to register as a speaker.

Dated: April 11, 2022.
Wayne R. Arguin, Jr.,
Captain, U.S. Coast Guard, Director of Inspections and Compliance.

[FR Doc. 2022-08102 Filed 4-14-22; 8:45 am]

BILLING CODE 9110-04-P